COMMITTEE FOR PURCHASE FROM PEOPLE WHO ARE BLIND OR SEVERELY DISABLED

Procurement List Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

DATES: Effective Date: February 26, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On November 25, and December 2, 2005, the Committee for Purchase From People Who Are Blind or Severely Disabled published notice (70 FR 71084, and 27788) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Battery, Nonrechargeable (Silver Oxide).

6135-01-110-9470—Battery, Button, Silver Oxide.

6135-01-106-7740—Battery, Button, Silver Oxide, Miniature.

Product/NSNs: Battery, Nonrechargeable (Size N).

6135-01-031-0862—Battery, Size N, Alkaline-Manganese Dioxide.

NPA: Eastern Carolina Vocational Center, Inc., Greenville, North Carolina.

Contracting Activity: Defense Supply Center Richmond, Richmond, Virginia.

Product/NSNs: Paper or Stationer's Shears (GSA Global Supply Only).

5110-00-161-6912—9” Shears have 4⅝” length of cut.

Product/NSNs: Straight Trimmer's Shears (GSA Global Supply Only).

5110-00-293-9199—7” Shears have 3” length of cut.

NPA: Winston-Salem Industries for the Blind, Winston-Salem, North Carolina.

Contracting Activity: GSA, Hardware & Appliances Center, Kansas City, Missouri.

Services

Service Type/Location: Custodial Services.

Cliffside Gas Field Facility, 15 Miles NW of Amarillo, Amarillo, Texas.

NPA: World Technical Services, Inc., San Antonio, Texas.

Contracting Activity: Bureau of Land Management, Albuquerque, New Mexico.

Service Type/Location: Grounds Maintenance.

USDA, Agriculture Research Service, Weslaco Center, 2413 E. Highway 83, Weslaco, Texas.

NPA: World Technical Services, Inc., San Antonio, Texas.

Contracting Activity: USDA, Agriculture Research Service, College Station, Texas.

Deletions

On December 2, 2005, the Committee for Purchase From People Who Are Blind or Severely Disabled published notice (70 FR 72289) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSNs: Gloves, Patient Examining.

6515-01-411-4796—Gloves, Patient Examining.

6515-01-441-6103—Gloves, Patient Examining.

6515-01-373-8306—Gloves, Patient Examining.

NPA: Bosma Industries for the Blind, Inc., Indianapolis, Indiana.

Contracting Activity: Department of Veterans Affairs, Washington, DC.

Sheryl D. Kennerly,
Director, Information Management.

[FR Doc. E6-1027 Filed 1-26-06; 8:45 am]

BILLING CODE 6353-01-P